GENERAL SERVICES ADMINISTRATION

[Notice-PCSCOTUS-2021-01; Docket No. PCSCOTUS-2021-0001; Sequence No. 2]

Office of Asset and Transportation Management; Presidential Commission on the Supreme Court of the United States; Notification of Upcoming Public Virtual Meeting and Request for Public Comment

AGENCY: Office of Government-wide Policy, General Services Administration (GSA).

ACTION: Request for public comment; meeting notice.

SUMMARY: GSA is accepting written public comments on the work of the Presidential Commission on the Supreme Court of the United States (Commission). Further, GSA is providing notice of an open public virtual meeting of the Commission in accordance with the requirements of the Federal Advisory Committee Act. For information on the topics discussed, please see the SUPPLEMENTARY INFORMATION section of this notice. This meeting is open to the public and will be live-streamed at www.whitehouse.gov/pcscotus/. Information about the public meeting will be posted at www.whitehouse.gov/pcscotus/ prior to the meeting.

DATES: The Commission will hold a public virtual meeting on June 30, 2021 from 9:00 a.m. to 5:00 p.m., Eastern Standard Time (EST). Written comments on the Commission will be accepted until November 15, 2021.

ADDRESSES: This meeting will be conducted virtually on the internet. Interested individuals must register to attend as instructed below.

Procedures for Attendance and Public Comment

Attendance. This meeting is open to the public and the Commission encourages the public's attendance. To attend this public virtual meeting, please send an email with the Subject: Registration. In the body of the email, provide your full name, organization (if applicable), email address, and phone number to the Designated Federal Officer, at info@pcscotus.gov. Registration requests must be received by 5:00 p.m. ET, on June 28, 2021. Registrations received after this day/time may not be processed.

Public Comments. Written public comments are being accepted via http://www.regulations.gov, the Federal eRulemaking portal throughout the life of the Commission. To submit a written public comment, go to http://www.regulations.gov and search for Notice-PCSCOTUS-2021-01, Notification of Upcoming Public Virtual Meeting and Request for Public Comment. Select the link “Comment Now” that corresponds with this notice. Follow the instructions provided on the screen. Please include your name, company name (if applicable), and “Notice-PCSCOTUS-2021-01, Notification of Upcoming Public Virtual Meeting and Request for Public Comment” on your attached document (if applicable). Public comments meeting our public comment policy, included under SUPPLEMENTARY INFORMATION, will be made available for review. Comments provided by 5:00 p.m. ET, on June 28, 2021 will be provided to the Commission members in advance of the June 30 public meeting. Comments submitted after this date will still be provided to the Commission members, but please be advised that Commission members may not have adequate time to consider the comments prior to the meeting.

Special Accommodations. For information on services for individuals with disabilities, or to request accommodation of a disability, please contact the Designated Federal Officer at least 10 business days prior to the meeting to give GSA as much time as possible to process the request.

FOR FURTHER INFORMATION CONTACT: For information on the public virtual meeting, contact Dana Fowler, Designated Federal Officer, Office of Government-wide Policy, General Services Administration, at info@pcscotus.gov, 202-501-1777.

SUPPLEMENTARY INFORMATION:

Background

The Administrator of GSA established the Commission as a Presidential advisory committee on April 26, 2021 pursuant to Executive Order 14023, Establishment of the Presidential Commission on the Supreme Court of the United States, issued on April 9, 2021. Per the executive order, the Commission shall produce a report for the President that includes the following:

(i) An account of the contemporary commentary and debate about the role and operation of the Supreme Court in our constitutional system and about the functioning of the constitutional process by which the President nominates and, by and with the advice and consent of the Senate, appoints Justices to the Supreme Court;

(ii) The historical background of other periods in the Nation's history when the Supreme Court's role and the nominations and advice-and-consent process were subject to critical assessment and prompted proposals for reform; and

(iii) An analysis of the principal arguments in the contemporary public debate for and against Supreme Court reform, including an appraisal of the merits and legality of particular reform proposals.

Meeting Agenda

The purpose of this meeting is to hear testimony from experts. This testimony will be organized into four panels.

• Panel #1: The Contemporary Debate over Supreme Court Reform: Origins and Perspectives.

• Panel #2: The Court's Role in Our Constitutional System.

• Panel #3: Case Selection and Review at the Supreme Court.

• Panel #4: Access to Justice and Transparency in the Operation of the Supreme Court.

Public Comment Policy

The Commission asks that written public comments be respectful and relevant to the work of the Commission. All comments are reviewed before they can be shared with the Commission or posted online. Comments that include the following will not be shared:

• Vulgar, obscene, profane, threatening, or abusive language; personal attacks of any kind.

• Discriminatory language (including hate speech) based on race, national origin, age, gender, sexual orientation, religion, or disability.

• Endorsements of commercial products, services, organizations, or other entities.

• Repetitive posts (for example, if you submit the same material multiple times).

• Spam or undecipherable language (gratuitous links will be viewed as spam).

• Copyrighted material.

• Links to external sites.

• Images or videos.

• Solicitation of funds.

• Procurement-sensitive information.

• Surveys, polls, and questionnaires subject to the Office of Management and Budget Paperwork Reduction Act clearance.

• Personally Identifiable Information (PII) or Sensitive Information (SI).

• Off-topic posts.

• Media inquiries.

Thank you for your interest in the Presidential Commission on the Supreme Court of the United States. We look forward to hearing from you.

Krystal J. Brumfield,
Associate Administrator, Office of Government-wide Policy.

[FR Doc. 2021-12231 Filed 6-11-21; 8:45 am]

BILLING CODE 6820-14-P